DEPARTMENT OF JUSTICE

[OMB Number 1103-0105]

Agency Information Collection Activities; Proposed eCollection eComments Requested; Approval, With Change, of a Previously Approved Collection; Community Policing Self-Assessment (CP-SAT)

AGENCY: Office of Community Oriented Policing Services, Department of Justice.

ACTION: 30-Day notice.

SUMMARY: The Department of Justice (DOJ), Office of Community Oriented Policing Services (COPS), will be submitting the following information collection request to the Office of Management and Budget (OMB) for review and approval in accordance with the Paperwork Reduction Act of 1995. The proposed information collection was previously published in the Federal Register Volume 79, Number 31, page 9001, on February 14, 2014, allowing for a 60 day comment period.

DATES: Comments are encouraged and will be accepted for 30 days until May 19, 2014.

FOR FURTHER INFORMATION CONTACT: If you have comments especially on the estimated public burden or associated response time, suggestions, or need a copy of the proposed information collection instrument with instructions or additional information, please contact Kimberly Brummett, Department of Justice, Office of Community Oriented Policing Services, 145 N Street NE., Washington, DC 20530.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Community Policing Self-Assessment (CP-SAT).

(3) Agency form number: N/A.

(4) Affected public who will be asked or required to respond, as well as a brief abstract: Law enforcement agencies and community partners.

The purpose of this project is to improve the practice of community policing throughout the United States by supporting the development of a series of tools that will allow law enforcement agencies to gain better insight into the depth and breadth of their community policing activities.

(5) An estimate of the total number of respondents and the amount of time estimated for an average respondent to respond: It is estimated that approximately 95,035 respondents will respond with an average of 15 minutes per response.

(6) An estimate of the total public burden (in hours) associated with the collection: The total estimated burden is 23,759 hours.

If additional information is required contact: Jerri Murray, Department Clearance Officer, United States Department of Justice, Justice Management Division, Policy and Planning Staff, Two Constitution Square, 145 N Street NE., Room 3E.405B, Washington, DC 20530.

Dated: April 14, 2014.
Jerri Murray,
Department Clearance Officer for PRA, U.S. Department of Justice.

[FR Doc. 2014-08789 Filed 4-17-14; 8:45 am]

BILLING CODE 4410-AT-P